DEPARTMENT OF ENERGY

Federal Energy Regulatory Commission

[Docket No. RP00-426-009]

Texas Gas Transmission Corporation; Notice of Compliance Filing

November 4, 2002.

Take notice that on October 30, 2002, Texas Gas Transmission Corporation (Texas Gas) tendered for filing as part of its FERC Gas Tariff, First Revised Volume No. 1, Fifth Revised Sheet No. 40, to become effective October 1, 2002.

Texas Gas states that the purpose of this filing is to reflect a non-conforming amendment to a service agreement in its tariff as required by Section 154.112(b) of the Commission's regulations.

Texas Gas states that copies of the revised tariff sheet are being mailed to the parties on the official service list for this docket number, Texas Gas's jurisdictional customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-28589 Filed 11-8-02; 8:45 am]

BILLING CODE 6717-01-P